DEPARTMENT OF ENERGY

Federal Energy Regulatory Commission

Combined Notice of Filings #2

Take notice that the Commission received the following electric rate filings:

Docket Numbers: ER16-724-000.

Applicants: Midcontinent Independent System Operator, Inc., ITC Midwest LLC.

Description: § 205(d) Rate Filing: 2016-01-13_SA 2883 ITC Midwest-MidAmerican FSA (H009) to be effective 3/13/2016.

Filed Date: 1/13/16.

Accession Number: 20160113-5132.

Comments Due: 5 p.m. ET 2/3/16.

Docket Numbers: ER16-725-000.

Applicants: PJM Interconnection, L.L.C.

Description: § 205(d) Rate Filing: Service Agreement No. 4332; Queue AA1-139; SA No. 4216 Cancellation to be effective 12/14/2015.

Filed Date: 1/13/16.

Accession Number: 20160113-5133.

Comments Due: 5 p.m. ET 2/3/16.

Docket Numbers: ER16-726-000.

Applicants: Midcontinent Independent System Operator, Inc., Duke Energy Indiana, LLC.

Description: § 205(d) Rate Filing: 2016-01-13_SA 1893 Duke Energy-Hoosier Energy 1st Rev. IA to be effective 3/13/2016.

Filed Date: 1/13/16.

Accession Number: 20160113-5134.

Comments Due: 5 p.m. ET 2/3/16.

Docket Numbers: ER16-727-000.

Applicants: PacifiCorp.

Description: § 205(d) Rate Filing: Exelon Generation NITSA Rev 1 to be effective 1/1/2016.

Filed Date: 1/13/16.

Accession Number: 20160113-5149.

Comments Due: 5 p.m. ET 2/3/16.

Docket Numbers: ER16-728-000.

Applicants: Midcontinent Independent System Operator, Inc.

Description: § 205(d) Rate Filing: 2016-01-13_Cancellation of RS 44 ORCA to be effective 2/1/2016.

Filed Date: 1/13/16.

Accession Number: 20160113-5196.

Comments Due: 5 p.m. ET 2/3/16.

Docket Numbers: ER16-729-000.

Applicants: AEP Texas Central Company.

Description: § 205(d) Rate Filing: TCC-San Roman Wind I Interconnection Agreement-2nd Amendment to be effective 12/17/2015.

Filed Date: 1/13/16.

Accession Number: 20160113-5208.

Comments Due: 5 p.m. ET 2/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2016.
Nathaniel J. Davis, Sr.,
Deputy Secretary.

[FR Doc. 2016-00964 Filed 1-19-16; 8:45 am]

BILLING CODE 6717-01-P